SMALL BUSINESS ADMINISTRATION

National Women's Business Council; Quarterly Public Meeting

AGENCY: National Women's Business Council.

ACTION: Notice of open Public Meeting.

SUMMARY: The U.S. Small Business Administration (SBA) announces the meeting of the National Women's Business Council.

DATES: The meeting will be held on September 11th, 2015 from 2:00 p.m. to 4:00 p.m. EST.

ADDRESSES: The meeting will take place virtually via webconference.

SUPPLEMENTARY INFORMATION: Pursuant to section 10(a)(2) of the Federal Advisory Committee Act (5 U.S.C., Appendix 2), the U.S. Small Business Administration (SBA) announces the meeting of the National Women's Business Council. The National Women's Business Council is tasked with providing policy recommendations on issues of importance and impact to women entrepreneurs to the SBA, Congress, and the White House.

The business portion will include remarks from the Council Chair, Carla Harris; an update from each of the NWBC committees on recent activities and research on women business owners; and a preview of the policy recommendations that the Council will be making to the SBA, Congress, and the White House for improving the business climate for women entrepreneurs, as well as the new research portfolio. The second half of the program will include a panel discussion related to the Council's Access to Capital body of work. The panel will feature women influencers discussing the lack of women in venture capital generally and the potential policy implications.

FOR FURTHER INFORMATION CONTACT: The meeting is open to the public however advance notice of attendance is requested. To RSVP and confirm attendance, the general public should email info@nwbc.gov with subject line—“RSVP-Public Meeting.” Anyone wishing to make a presentation to the NWBC at this meeting must either email their interest to info@nwbc.gov or call the main office number at 202-205-3850.

For more information, please visit the National Women's Business Council Web site at www.nwbc.gov.

Miguel J. L'Heureux,
SBA Committee Management Officer.

[FR Doc. 2015-19410 Filed 8-6-15; 8:45 am]

BILLING CODE P